DEPARTMENT OF ENERGY

Federal Energy Regulatory Commission

Combined Notice of Filings No. 2

October 8, 2009.

Take notice that the Commission has received the following Natural Gas Pipeline Rate and Refund Report filings:

Docket Numbers: RP09-540-002

Applicants: Northern Border Pipeline Company

Description: Northern Border Pipeline Company submits a Motion to Effectuate Tariff Sheets.

Filed Date: 08/24/2009

Accession Number: 20090824-5124

Comment Date: 5 p.m. Eastern Time on Tuesday, October 13, 2009

Docket Numbers: RP09-487-001

Applicants: High Island Offshore System, L.L.C.

Description: Motion of High Island Offshore System, L.L.C. to place tariff sheets into effect.

Filed Date: 09/30/2009

Accession Number: 20090930-0086

Comment Date: 5 p.m. Eastern Time on Tuesday, October 13, 2009

Docket Numbers: RP09-882-001

Applicants: Questar Pipeline Company

Description: Questar Pipeline Company submits Substitute First Revised Sheet No 172D et al. to its FERC Gas Tariff, First Revised Volume No 1, to be effective 9/1/09.

Filed Date: 10/07/2009

Accession Number: 20091007-0079

Comment Date: 5 p.m. Eastern Time on Monday, October 19, 2009

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-25090 Filed 10-16-09; 8:45 am]

BILLING CODE 6717-01-P